FEDERAL COMMUNICATIONS COMMISSION

[MB Docket No. 05-311; DA 19-1191]

Media Bureau Seeks Comment on NCTA Petition for Clarification of Order Denying Motion for Stay of Section 621 Third Report and Order

AGENCY: Federal Communications Commission.

ACTION: Notice and request for comments.

SUMMARY: NCTA—The Internet & Television Association (NCTA) has filed with the Commission a Petition for Clarification of the Media Bureau's Order Denying Motion for Stay of the Commission's Third Report and Order in the proceeding referenced above. In this document, the Media Bureau gives public notice of that Petition and seeks comment on it.

DATES: Comments due by December 6, 2019; reply comments due by December 13, 2019.

ADDRESSES: You may send comments, identified by MB Docket No. 05-311, by any of the following methods:

• Federal eRulemaking Portal: http://www.regulations.gov. Follow the instructions for submitting comments.

• Federal Communications Commission's Website: http://www.fcc.gov/cgb/ecfs/. Follow the instructions for submitting comments.

• Mail: Filings can be sent by hand or messenger delivery, by commercial overnight courier, or by first-class or overnight U.S. Postal Service mail. All filings must be addressed to the Commission's Secretary, Office of the Secretary, Federal Communications Commission.

• People with Disabilities: To request materials in accessible formats for people with disabilities (braille, large print, electronic files, audio format), send an email to fcc504@fcc.gov or call the Consumer & Governmental Affairs Bureau at 202-418-0530 (voice), 202-418-0432 (tty).

For detailed instructions for submitting comments, see the SUPPLEMENTARY INFORMATION section of this document.

FOR FURTHER INFORMATION CONTACT: Raelynn Remy of the Media Bureau, Federal Communications Commission, at raelynn.remy@fcc.gov.

SUPPLEMENTARY INFORMATION: This is a summary of the Commission's Public Notice, DA 19-1191, released on November 18, 2019. The full text of this document is available electronically via the FCC's Electronic Document Management System (EDOCS) website at https://docs.fcc.gov/public/attachments/DA-19-1191A1.doc. Documents will be available electronically in ASCII, Microsoft Word, and/or Adobe Acrobat. This document is also available for public inspection and copying during regular business hours in the FCC Reference Information Center, which is located in Room CY-A257 at FCC Headquarters, 445 12th Street SW, Washington, DC 20554. The Reference Information Center is open to the public Monday through Thursday from 8:00 a.m. to 4:30 p.m. and Friday from 8:00 a.m. to 11:30 a.m. The complete text may be purchased from the Commission's copy contractor, 445 12th Street SW, Room CY-B402, Washington, DC 20554. Alternative formats are available for people with disabilities (Braille, large print, electronic files, audio format), by sending an email to FCC504@fcc.gov or calling the Commission's Consumer and Governmental Affairs Bureau at (202) 418-0530 (voice), (202) 418-0432 (TTY).

Synopsis

On November 15, 2019, NCTA—The Internet & Television Association (NCTA) filed a Petition for Clarification of the Media Bureau's Order Denying Motion for Stay of the Commission's Third Report and Order ¹ in the above-referenced proceeding. In its Petition, NCTA requests that the Bureau clarify “certain language in [p]aragraph 21 of the Stay Denial Order [that] creates the potential for confusion and the appearance of a conflict with the Third Report and Order.” In particular, NCTA asserts that the Bureau's statements in paragraph 21 that “[t]he rules in the [Third Report and Order] did not supersede provisions in existing franchise agreements on their effective date” and “[i]f negotiations fail, the terms in the franchise remain in effect unless and until a cable operator challenges those terms and proves that the terms violate the [Third Report and Order's] requirements” could be interpreted in a way that “conflict[s] with the Third Report and Order's plain directives and require[s] procedures not mandated by the Commission.” NCTA asks that the Bureau address this apparent conflict with the Third Report and Order by removing the relevant statements from the Stay Denial Order.

¹ 84 FR 44725, Aug. 27, 2019.

We issue this Public Notice to seek comment on the Petition. All filings in response to this Public Notice must reference MB Docket No. 05-311. Comments on the Petition must be filed by December 6, 2019; reply comments must be filed by December 13, 2019.

Electronic Filers: Comments may be filed electronically using the internet by accessing the ECFS: http://apps.fcc.gov/ecfs/.

Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th St. SW, Room TW-A325, Washington, DC 20554. The filing hours are 8:00 a.m. to 7:00 p.m. All hand deliveries must be held together with rubber bands or fasteners. Any envelopes and boxes must be disposed of before entering the building.

Commercial overnight mail (other than U.S. Postal Service Express Mail and Priority Mail) must be sent to 9050 Junction Drive, Annapolis Junction, MD 20701.

U.S. Postal Service first-class, Express, and Priority mail must be addressed to 445 12th Street SW, Washington, DC 20554.

People with Disabilities: To request materials in accessible formats for people with disabilities (braille, large print, electronic files, audio format), send an email to fcc504@fcc.gov or call the Consumer & Governmental Affairs Bureau at 202-418-0530 (voice), 202-418-0432 (tty).

Filings are also available for public inspection and copying during regular business hours at the FCC Reference Information Center, Portals II, 445 12th Street SW, Room CY-A257, Washington, DC 20554, telephone (202) 418-0270.

This proceeding is treated as a “permit-but-disclose” proceeding in accordance with the Commission's ex parte rules.² Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

² Id. §§ 1.1200 et seq.

Federal Communications Commission.
Thomas Horan,
Chief of Staff, Media Bureau.

[FR Doc. 2019-26101 Filed 12-2-19; 8:45 am]

BILLING CODE 6712-01-P